DEPARTMENT OF VETERANS AFFAIRS

Construction Advisory Board; Notice of Meeting

The Department of Veterans Affairs (VA) gives notice under Public Law 92-463 (Federal Advisory Committee Act) that a meeting of the Construction Advisory Board will be held on September 28-29, 2005 in Room 930 at the Department of Veterans Affairs, 810 Vermont Avenue, NW., Washington, DC 20420. The meeting is open to the public, except for a two hour portion during the morning of September 29, 2005.

The purpose of the Board is to provide advice to the Secretary of the Department of Veterans Affairs regarding VA construction. The Board will make recommendations to the Secretary on the nature and scope of the Department's construction processes.

The meeting will begin with a session on September 28 from 1 p.m. until 5 p.m. At that time, the Board will receive briefings from three working groups regarding their site visits in August 2005 and receive oral presentations from the public. On September 29 from 10 a.m. until 12 noon the Board will discuss personnel matters. To protect personal privacy and in accordance with 5 U.S.C. 552b(c)(6), this portion of the meeting will be closed. On the afternoon of September 29, the Board will discuss additional areas of study and set the date for its next meeting.

Members of the public may direct questions or submit written statements for review by the Board in advance of the meeting. Any member of the public wishing to make a brief oral presentation or to attend the meeting should contact Doug Belling, Designated Federal Officer, Office of Asset Enterprise Management (004B), Department of Veterans Affairs, 810 Vermont Avenue, NW., Washington, DC 20420, at (202) 273-6675.

Dated: August 16, 2005.
By Direction of the Secretary.
E. Philip Riggin,
Committee Management Officer.

[FR Doc. 05-16760 Filed 8-23-05; 8:45 am]

BILLING CODE 8320-01-M